DEPARTMENT OF THE INTERIOR

National Park Service

Notice of Intent to Repatriate a Cultural Item: Oshkosh Public Museum, Oshkosh, WI

AGENCY: National Park Service, Interior.

ACTION: Notice.

Notice is here given in accordance with the Native American Graves Protection and Repatriation Act (NAGPRA), 25 U.S.C. 3005, of the intent to repatriate a cultural item in the possession of the Oshkosh Public Museum, Oshkosh, WI, that meets the definition of unassociated funerary object under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

The cultural item is a partially reconstructed and undecorated shell-tempered ceramic bowl, 8 cm high and 12 cm in diameter. The bowl was reconstructed and labeled “47/WN/139 Vessel Q” by the University of Wisconsin-Oshkosh. After reconstruction, the University returned the bowl to the landowner, Gerald Lee. According to the Wisconsin State site report (47-WN-139) the bowl is a small undecorated shell-tempered pot that was found in 1971. It was found in association with an adult burial on the property of Gerald Lee in Poygan, WI, and the burial was reburied at St. Thomas Cemetery, Omro, WI. The Oshkosh Public Museum accessioned the bowl on April 27, 2010, after Dennis Lee, son of Gerald Lee, donated the bowl to the museum.

The Wisconsin State site report lists the cultural affiliation for the Gerald Lee site as Late Woodland, Oneota and Unknown Prehistoric. The vessel is identified as Oneota by Carol L. Mason in “Site Survey of Upland and Endangered Areas of Winnebago and Green Lake Counties,” (Reports of Investigations, Number 6, University of Wisconsin-Oshkosh, 1995, p. A-11).

In response to notification letters sent by the Oshkosh Public Museum, the Ho-Chunk Nation has claimed the bowl. In support of their claim, the Ho-Chunk Nation stated that present-day archeology recognizes shell-tempered ceramics as Oneota in origin and strongly suggests that the Ho-chunk, Iowa, Otoe and Missouri are present-day descendents of the Oneota. The Ho-Chunk Nation further claim that their oral tradition coincides with an Oneota origin and that the Poygan,WI, area is part of the their aboriginal homeland.

Officials of the Oshkosh Public Museum have determined that, pursuant to 25 U.S.C. 3001(3)(B), the one cultural item described above is reasonably believed to have been placed with or near individual human remains at the time of death or later as part of the death rite or ceremony and is believed, by preponderance of the evidence, to have been removed from a specific burial site of a Native American individual. Officials of the Oshkosh Public Museum also have determined that, pursuant to 25 U.S.C. 3001(2), there is a relationship of shared group identity that can be reasonably traced between the unassociated funerary object and the Ho-Chunk Nation of Wisconsin; Iowa Tribe of Kansas and Nebraska; Iowa Tribe of Oklahoma; Otoe-Missouria Tribe of Indians, Oklahoma; and Winnebago Tribe of Nebraska.

Representatives of any other Indian tribe that believes itself to be culturally affiliated with the unassociated funerary object should contact Joan Lloyd, Oshkosh Public Museum, 1331 Algoma Blvd., Oshkosh, WI 54901, telephone (920) 236-5766, before October 20, 2010. Repatriation of the unassociated funerary object to the Ho-Chunk Nation of Wisconsin may proceed after that date if no additional claimants come forward.

The Oshkosh Public Museum is responsible for notifying the Ho-Chunk Nation of Wisconsin; Iowa Tribe of Kansas and Nebraska; Iowa Tribe of Oklahoma; Menominee Indian Tribe of Wisconsin; Otoe-Missouria Tribe of Indians, Oklahoma; and the Winnebago Tribe of Nebraska, that this notice has been published.

Dated: September 10, 2010
Sherry Hutt,
Manager, National NAGPRA Program.

[FR Doc. 2010-23406 Filed 9-17-10; 8:45 am]

BILLING CODE 4312-50-S